DEPARTMENT OF JUSTICE

Antitrust Division

Notice Pursuant to the National Cooperative Research and Production Act of 1993—UHD Alliance, Inc.

Notice is hereby given that, on June 17, 2015, pursuant to section 6(a) of the National Cooperative Research and Production Act of 1993, 15 U.S.C. 4301 et seq. (“the Act”), UHD Alliance, Inc. (“UHD Alliance”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: The DIRECTV Group, Inc., El Segundo, CA; Walt Disney Pictures, Burbank, CA; Dolby Laboratories Inc., San Francisco, CA; Twentieth Century Fox Film Corporation, Beverly Hills, CA; Netflix, Inc., Los Gatos, CA; Panasonic Corporation, Osaka, JAPAN; Samsung Electronics Co., Ltd., Gyeonggi-do, REPUBLIC OF KOREA; Sony Corporation, Tokyo, JAPAN; Technicolor SA, Cedex, FRANCE; Warner Bros. Entertainment Inc., Burbank, CA; LG Electronics Inc., Seoul, REPUBLIC OF KOREA; DTS, Inc., Calabasas, CA; Universal Pictures, a division of Universal City Studios LLC, Universal City, CA; Mstar Semiconductor, Inc., ChuPei, HsinChu Hsein, TAIWAN; NVIDIA Corporation, Santa Clara, CA; ARRI, Inc., Burbank, CA; Nanosys Inc., Milpitas, CA; MediaTek Inc., Hsinchu, TAIWAN; TP Vision Europe B.V., Amsterdam, NETHERLANDS; Amazon.com, Seattle, WA; Toshiba Lifestyle Products & Services Corporation, Tokyo, JAPAN; Realtek Semiconductor Corp., Hsinchu Hsein, TAIWAN; and Intel Corporation, Folsom, CA. The general area of UHD Alliance's planned activity is to create a framework to enable the global industries interested in premium next generation content related technologies, such as Ultra High Definition, High Dynamic Range, Wide Color Gamut, High Frame Rate and Next Gen Audio (“Premium Next Gen Content”) to (a) specify and develop requirements for the premium quality Premium Next Gen Content, related devices, distribution and other elements of a UHD Alliance-based ecosystem (“Specifications”); (b) promote the global development and adoption of Specifications and Specification-compliant products (i.e., content, devices and services); (c) provide clear definitions, industry guidelines and best practices on emerging technologies and collaborate with other standards development organizations; (d) develop and administer Premium Next Gen Content testing methodologies and certification programs based on the Specifications; (e) establish a logo program for Specification certified products (i.e., content devices and services); and (f) promote the UHD Alliance brand and ecosystem to consumers.

Patricia A. Brink,
Director of Civil Enforcement, Antitrust Division.

[FR Doc. 2015-17544 Filed 7-16-15; 8:45 am]

BILLING CODE P